DEPARTMENT OF ENERGY

Federal Energy Regulatory Commission

[Docket No. EL15-91-000; Docket No. QF15-885-001]

Greycliff Wind Prime, LLC; Greycliff Wind Prime, LLC; Notice of Petition for Declaratory Order

Take notice that on August 17, 2015, pursuant to section 210(h) of the Public Utility Regulatory Policies Act of 1978 (PURPA), 16 U.S.C. 824a-3(h)(2006) and Rule 207(a)(2) of the Federal Energy Regulatory Commission's (Commission) Rules of Practice and Procedure, 18 CFR 385.207(a)(2), Greycliff Wind Prime, LLC (Greycliff or Petitioner) filed a petition for declaratory order requesting that the Commission take enforcement action under section 210(h) of PURPA against the Montana Public Service Commission (MPSC) for its continued reliance on A.R.M. 38.5.1902(5) (Montana Rule), or in the alternative, Greycliff seeks a declaratory order finding that the MPSC's continued reliance on the Montana Rule, and MPSC decisions interpreting the Montana Rule, fail to implement PURPA and the Commission's regulations thereunder, alleging that the Montana Rule eliminates the rights of qualifying facilities to create a legally enforceable obligation and to choose how to sell their energy capacity, as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on September 16, 2015.

Dated: August 19, 2015.
Kimberly D. Bose,
Secretary.

[FR Doc. 2015-20985 Filed 8-24-15; 8:45 am]

BILLING CODE 6717-01-P